DEPARTMENT OF ENERGY

Federal Energy Regulatory Commission

[Project No. 2221-041]

Empire District Electric Company; Notice of Material Amendment of License Application, Soliciting Comments and Associated Study Requests, and Establishing The Deadline for Submission of Final Amendments

On February 28, 2020, Empire District Electric Company (Empire District) filed, pursuant to sections 4(e) and 15 of the Federal Power Act, an application for a new major license to continue operating the Ozark Beach Hydroelectric Project No. 2221 (Ozark Beach Project) located on the White River in Taney County, Missouri. On March 10, 2020, the Commission issued a Notice of Application Tendered for Filing with the Commission and Establishing Procedural Schedule for Licensing and Deadline for Submission of Final Amendments. On August 28, 2020, Empire District filed an amendment to the license application.

The Ozark Beach Project currently occupies 5.1 acres of federal land administered by the U.S. Army Corps of Engineers (Corps) and is situated between two multipurpose projects owned by the Corps. The Corps' Table Rock Project, which is located approximately 22 miles upstream of the Ozark Beach Project, is operated in a peaking mode based on regional electrical demand requirements. The Ozark Beach Project discharges directly into the Corps' Bull Shoals Project reservoir, which is located immediately downstream.

The project currently consists of the following existing facilities: (1) A 2,224-acre reservoir (Lake Taneycomo) with a gross storage capacity of 21,800 acre-feet and a usable storage capacity of 6,500 acre-feet at a water surface elevation of 701.35 feet National Geodetic Vertical Datum of 1929 (NGVD29); (2) a 1,301-foot-long dam consisting of, from west to east: (a) A 420-foot-long earth fill embankment with a concrete core wall, (b) an 18-foot-long concrete overflow spillway topped with a sharp-crested steel weir having a compound section, (c) a 575-foot-long, 53-foot-high, concrete overflow spillway topped with 32 4-foot-high Obermeyer gates, (d) an 18-foot-long concrete non-overflow section, (e) an integral 220-foot-long reinforced concrete powerhouse, and (f) a 50-foot-long concrete non-overflow section; (3) a 220-foot-long, 88-foot-wide, 92-foot-high reinforced concrete integral powerhouse with an operating head of 50 feet; (4) trash racks at the entrance to the intakes; (5) four 7,500 horsepower (5.625 megawatt (MW)) vertical-shaft Francis-type turbines with a total capacity of 30,000 horsepower (22.500 MW), each coupled to a 4.0 MW generator with a total installed capacity of 16.0 MW; (6) a 445-foot-long, 4,600-volt overhead transmission line connected to a three-phase, 4,600 to 161,000 volt step-up transformer with a rating of 22,400-kilovolt ampere that connects to Empire District's 161,000-volt transmission system; and (7) appurtenant facilities.

Using the storage in Lake Taneycomo, the Ozark Beach Project is currently operated based on various conditions including closely matching the releases of the Corps' upstream Table Rock Project, market pricing, Lake Taneycomo water level, the water level of the Corps' downstream Bull Shoals Project, and rainfall. The project currently operates to maintain water surface elevations between 701.35 and 700.00 feet NGVD29 in Lake Taneycomo. The Ozark Beach Project currently has an estimated annual energy production of about 50,768 megawatt-hours.

In its amended license application, Empire District proposes to replace the existing 4-foot-high Obermeyer gates with new 6-foot-high Obermeyer gates. As proposed, the water surface elevation of Lake Taneycomo would be raised from 701.35 to 703.35 feet NGVD29 when the 6-foot gates are fully raised. At a water surface elevation of 703.35 feet NGVD29, Lake Taneycomo would increase from 2,224 to 2,523 acres, its gross storage capacity would increase from 21,800 to 24,100 acre-feet, and its usable storage capacity would increase from 6,500 to 8,800 acre-feet. As amended, the project would operate between 703.35 and 700 feet NGVD29, the total generating capacity would remain 16.0 MW, and the estimated annual energy production would remain about 50,768 megawatt-hours.

The current project boundary for the project encompasses approximately 8,271 acres of water and land. Empire District proposes to modify the current project boundary by removing 5,728 acres for a proposed project boundary that encompasses 2,543 acres. Empire District's proposal would reduce the existing area of federal land occupied by the project from 5.1 acres to 0.64 acre.

Pursuant to 18 CFR 4.35(f)(1)(ii)(A), the license application as amended constitutes a material amendment. This application is not ready for environmental analysis at this time. With this notice, we are soliciting comments on Empire District's amended application as well as study requests. The deadline for filing comments and study requests is 60 days from the issuance date of this notice.

The Commission strongly encourages electronic filing. Please file comments and study requests using the Commission's eFiling system at https://ferconline.ferc.gov/FERCOnline.aspx. Commenters can submit brief comments up to 6,000 characters, without prior registration, using the Comment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2221-041.

In addition to publishing the full text of this notice in the Federal Register, the Commission provides all interested persons an opportunity to view and/or print the contents of this notice, as well as other documents in the proceeding, via the internet through the Commission's Home Page (http://www.ferc.gov) using the “eLibrary” link. Enter the docket number excluding the last three digits in the docket number field to access the document (P-2221). At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

Applicant Contact: Randy Richardson, Plant Manager—Energy Center/Ozark Beach, Empire District Electric Company, 2537 Fir Road, Sarcoxie, MO 64862, (417) 625-6138 or RRichardson@libertyutilities.com.

FERC Contact: Colleen Corballis at (202) 502-8598 or email at colleen.corballis@ferc.gov.

The Council on Environmental Quality (CEQ) issued a final rule on July 15, 2020, revising the regulations under 40 CFR parts 1500-1518 that federal agencies use to implement NEPA (see Update to the Regulations Implementing the Procedural Provisions of the National Environmental Policy Act, 85 FR 43,304). The Final Rule became effective on and applies to any NEPA process begun after September 14, 2020. An agency may also apply the regulations to ongoing activities and environmental documents begun before September 14, 2020, which includes the proposed Ozark Beach Project. Commission staff intends to conduct its NEPA review in accordance with CEQ's new regulations.

Final amendments to the application must be filed with the Commission no later than 30 days from the issuance date of the notice of ready for environmental analysis.

Dated: November 1, 2021.
Kimberly D. Bose,
Secretary.

[FR Doc. 2021-24231 Filed 11-4-21; 8:45 am]

BILLING CODE 6717-01-P